DEPARTMENT OF ENERGY

Federal Energy Regulatory Commission

Combined Notice of Filings

Take notice that the Commission has received the following Natural Gas Pipeline Rate and Refund Report filings:

Docket Numbers: RP20-380-000.

Applicants: MarkWest Pioneer, L.L.C.

Description: § 4(d) Rate Filing: Amendment to Negotiated Rate Service Agreement to be effective 1/1/2020.

Filed Date: 12/31/19.

Accession Number: 20191231-5088.

Comments Due: 5 p.m. ET 1/13/20.

Docket Numbers: RP20-381-000.

Applicants: Columbia Gas Transmission, LLC.

Description: § 4(d) Rate Filing: Diversified Negotiated Rate Amendments to be effective 1/1/2020.

Filed Date: 12/31/19.

Accession Number: 20191231-5046.

Comments Due: 5 p.m. ET 1/13/20.

Docket Numbers: RP20-382-000.

Applicants: Columbia Gas Transmission, LLC.

Description: § 4(d) Rate Filing: CCRM 2020 to be effective 2/1/2020.

Filed Date: 12/31/19.

Accession Number: 20191231-5049.

Comments Due: 5 p.m. ET 1/13/20.

Docket Numbers: RP20-383-000.

Applicants: Enable Gas Transmission, LLC.

Description: § 4(d) Rate Filing: Negotiated Rate Filing—January 1 2020 Continental 1011192 to be effective 1/1/2020.

Filed Date: 12/31/19.

Accession Number: 20191231-5053.

Comments Due: 5 p.m. ET 1/13/20.

Docket Numbers: RP20-384-000.

Applicants: Texas Eastern Transmission, LP.

Description: § 4(d) Rate Filing: Amended Negotiated Rates—Total eff 1-1-20 to be effective 1/1/2020.

Filed Date: 12/31/19.

Accession Number: 20191231-5054.

Comments Due: 5 p.m. ET 1/13/20.

Docket Numbers: RP20-385-000.

Applicants: Rockies Express Pipeline LLC.

Description: § 4(d) Rate Filing: 2019-12-31 Negotiated Rate Agreements to be effective 1/1/2020.

Filed Date: 12/31/19.

Accession Number: 20191231-5056.

Comments Due: 5 p.m. ET 1/13/20.

Docket Numbers: RP20-386-000.

Applicants: Gulf South Pipeline Company, LP.

Description: § 4(d) Rate Filing: Company Name Change Filing to be effective 1/1/2020.

Filed Date: 12/31/19.

Accession Number: 20191231-5058.

Comments Due: 5 p.m. ET 1/13/20.

Docket Numbers: RP20-387-000.

Applicants: Trailblazer Pipeline Company LLC.

Description: § 4(d) Rate Filing: Neg Rate 2020-01-01 Castleton, Koch to be effective 1/1/2020.

Filed Date: 12/31/19.

Accession Number: 20191231-5065.

Comments Due: 5 p.m. ET 1/13/20.

Docket Numbers: RP20-388-000.

Applicants: Texas Eastern Transmission, LP.

Description: § 4(d) Rate Filing: Amended Negotiated Rate—EAP contract 911572 eff 1-1-20 to be effective 1/1/2020.

Filed Date: 12/31/19.

Accession Number: 20191231-5081.

Comments Due: 5 p.m. ET 1/13/20.

Docket Numbers: RP20-389-000.

Applicants: NEXUS Gas Transmission, LLC.

Description: § 4(d) Rate Filing: Negotiated Rates—Columbia releases 860005 eff 1-1-2020 to be effective 1/1/2020.

Filed Date: 12/31/19.

Accession Number: 20191231-5087.

Comments Due: 5 p.m. ET 1/13/20.

Docket Numbers: RP20-390-000.

Applicants: Algonquin Gas Transmission, LLC.

Description: § 4(d) Rate Filing: Negotiated Rate—Keyspan release to Agera Energy 801131 to be effective 1/1/2020.

Filed Date: 12/31/19.

Accession Number: 20191231-5096.

Comments Due: 5 p.m. ET 1/13/20.

Docket Numbers: RP20-391-000.

Applicants: Northern Natural Gas Company.

Description: § 4(d) Rate Filing: 20191231 Negotiated Rates to be effective 1/1/2020.

Filed Date: 12/31/19.

Accession Number: 20191231-5105.

Comments Due: 5 p.m. ET 1/13/20.

Docket Numbers: RP20-392-000.

Applicants: Dominion Energy Transmission, Inc.

Description: § 4(d) Rate Filing: DETI—December 31, 2019 Negotiated Rate Agreement to be effective 2/1/2020.

Filed Date: 12/31/19.

Accession Number: 20191231-5176.

Comments Due: 5 p.m. ET 1/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2020.
Kimberly D. Bose,
Secretary.

[FR Doc. 2020-00085 Filed 1-7-20; 8:45 am]

BILLING CODE 6717-01-P